Title 3—

The President

Proclamation 8091 of December 15, 2006

Wright Brothers Day, 2006

By the President of the United States of America

A Proclamation

America has a rich history of exploration and discovery, marked by scientific and technological achievements that have transformed the world. On Wright Brothers Day, we remember two aviation pioneers from Ohio whose big dreams and extraordinary accomplishments helped change the course of human history.

On December 17, 1903, Orville and Wilbur Wright completed the first manned, powered flight in history and ushered all of mankind into a new era of possibility and promise. With Orville at the controls, the Wright brothers' small aircraft traveled 120 feet in 12 seconds above the dunes of Kitty Hawk, North Carolina. The age of flight had begun, and in the decades that followed, advancements in aviation would enable determined American risk-takers to cross oceans, break the sound barrier, and walk on the Moon.

Today, our Nation follows the Wright brothers' example of innovation as we continue to explore the frontiers of air and space. My Administration has outlined a vision for space exploration that includes a return to the Moon and a long-term human and robotic program to explore Mars and the solar system. By working to expand the realm of the possible, we can gain a better understanding of the universe and continue the journey that the Wright brothers began more than a century ago.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, GEORGE W. BUSH, President of the United States of America, do hereby proclaim December 17, 2006, as Wright Brothers Day.

IN WITNESS WHEREOF, I have hereunto set my hand this fifteenth day of December, in the year of our Lord two thousand six, and of the Independence of the United States of America the two hundred and thirty-first.

[FR Doc. 06-9802

Filed 12-18-06; 11:34 am]

Billing code 3195-01-P